POSTAL SERVICE

39 CFR Part 111

U.S. Census Bureau Electronic Export Information Requirements When Sending Shipments Between or to U.S. Territories, Possessions, and Freely Associated States

AGENCY: Postal Service™.

ACTION: Final rule.

SUMMARY: New Foreign Trade Regulations (FTR) issued by the U.S. Census Bureau require the Postal Service to revise its standards and customs label requirements for customers mailing items between the United States, Puerto Rico, and the U.S. Virgin Islands, and from the United States to the Freely Associated States (Federated States of Micronesia, Republic of the Marshall Islands, and Republic of Palau).

DATES: Effective November 2, 2009.

FOR FURTHER INFORMATION CONTACT: Rick Klutts, 813-877-0372.

SUPPLEMENTARY INFORMATION: On September 30, 2008, the U.S. Census Bureau implemented statutory requirements for the electronic filing of export information through the Census Bureau's Automated Export System (AES) or its AESDirect Web site for various international shipments where a Shipper's Export Declaration (SED) was previously required. The new Foreign Trade Regulations mandate that Electronic Export Information (EEI) be filed when any type of goods contained in a shipment (per Schedule B Export Codes at http://www.census.gov/foreign-trade/schedules/b) is valued at more than $2,500 or requires an export license under U.S. law, subject to certain exceptions.

The Postal Service standards are consistent with the Foreign Trade Regulations (15 CFR part 30) and 13 U.S.C. Chapter 9, as amended by the Foreign Relations Authorization Act of 2002, Public L. 107-228.

Requirements for Sending Shipments Between or to U.S. Territories, Possessions, and Freely Associated States

Effective November 2, 2009, customers mailing certain shipments containing goods between the United States, Puerto Rico, and the U.S. Virgin Islands, or from the United States to the Freely Associated States (Republic of the Marshall Islands, Federated States of Micronesia, and Republic of Palau), are responsible for filing electronic export information with the Census Bureau, and for providing a Proof of Filing Citation (PFC) or AES Downtime Citation. In addition, in circumstances where a customs declaration form is used today on certain parcels, an Exemption or Exclusion Legend should appear, provided a PFC or AES Downtime Citation is not applicable. Goods mailed to APO/FPO/DPO addresses are not subject to these standards. Section 30.71 of the Federal Trade Regulations establishes civil and criminal penalties for customers who fail to electronically file their export information when required, or to comply with their regulations in any other way.

Electronic Export Information Filing; Proof of Filing Citation

The Census Bureau's requirements for electronic filing of export information apply to certain shipments:

1. From the United States to Puerto Rico or the U.S. Virgin Islands.

2. From Puerto Rico to the United States or U.S. Virgin Islands.

3. From any U.S. location to the Freely Associated States. Subject to exemptions and exclusions, as set forth below, electronic filing of export information and a Proof of Filing Citations (PFC) are required when:

1. Any type of goods in the package (per Schedule B Export Codes at http://www.census.gov/foreign-trade/schedules/b) is valued at more than $2,500.

2. The package requires an export license, if sent to one of the Freely Associated States. To determine if an export license is required, go to http://www.export.gov/regulation/index.asp or call: 1-800-USA-TRAD(E).

In these circumstances, it is the mailer's responsibility to electronically file export information before mailing; a paper Shipper's Export Declaration (SED) is no longer accepted. Electronic export information is filed through the U.S. Census Bureau's Automated Export System (AES) or AESDirect Web site utilizing the following steps:

■ Log on to http://www.aesdirect.gov and follow the instructions for registering and completing the AES Certification Quiz.

■ The “Port of Export” code for shipping through the Postal Service is “8000”.

■ The “Mode of Transport” is “Mail”.

■ The carrier should be left as “SCAC/IATA,” and the conveyance name fields should remain blank.

■ After the mailer has successfully filed the electronic export information, the mailer will be provided with an alphanumeric Internal Transaction Number (ITN) as confirmation. When mailing, the Proof of Filing Citation will consist of the letters “AES” followed by the ITN: for example, “AES X20080930987654”.

Note: If the AES system is down, call 1-800-549-0595, option 1.

AES Downtime Citation

If export information filing is required but AES or AESDirect is unavailable, the goods may be shipped but the mailer is responsible for providing the appropriate AES Downtime Citation. This citation includes the word “AESDOWN,” the mailer's AES filer identification number, and the date: for example, “AESDOWN 123456789 09/30/2009”.

Exemption and Exclusion Legends

For items that bear a customs declaration form as defined in Domestic Mail Manual 608.2.4 and when a PFC or an export license is not required, customers should enter one of following exemption codes on the customs declaration form:

• Regardless of value, for all goods shipped to, from, or between the following U.S. Territories, use “NOEEI 30.2(d)(2)”:

○ American Samoa.

○ Guam Island.

○ Northern Mariana Islands.

• For items destined to the Freely Associated States, customers may apply “NOEEI 30.37(a)” if the value of each class of goods is $2,500 or less. Exemption or Exclusion Legends cannot be applied to packages that require an export license. In such cases, customers mailing goods are responsible for filing or attempting to file, electronic export information through the AES Web site and apply a PFC or AES Downtime Citation to the customs declaration form. For more information on these and other exemptions and exclusions, customers should consult Appendix C of the Foreign Trade Regulations, 15 CFR part 30.

Entering Required PFC, AES Downtime Citation Placement, or Exemption and Exclusion Legend

When required, customers should legibly write the PFC, AES Downtime Citation, or Exemption and Exclusion Legend as follows when a customs declaration form is used on a package under DMM 608.2.4:

• On PS Form 2976-A, Customs Declaration and Dispatch Note—CP72 (large white form), customers should write one Exemption or Exclusion Legend, PFC, or AES Downtime Citation in Block 11.

• On older versions of PS Form 2976-A printed prior to January 2009, customers should write one Exemption or Exclusion Legend, PFC, or AES Downtime Citation at the top of the form or in any clear space. Avoid writing over the barcode on the form.

• If no customs declaration form is required (e.g., items sent between the United States, Puerto Rico, and the U.S. Virgin Islands), no other action for recording the Exemption or Exclusion Legend, PFC or AES Downtime Citation on the package is required.

Responding to Customer Questions

Customers needing further assistance with AES filing requirements should contact the U.S. Census Bureau on its toll-free hotline at 1-800-549-0595:

Option 1—AES Assistance;

Option 2—Commodity Classification Assistance;

Option 3—Regulatory Assistance.

Customers may also obtain a copy of Publication 613, New U.S. Census Bureau Regulations: What Mailers Need to Know When Shipping an International Package, from any U.S. Postal Service retail unit.

The Postal Service adopts the following changes to Mailing Standards of the United States Postal Service, Domestic Mail Manual (DMM®), incorporated by reference in the Code of Federal Regulations. See 39 CFR 111.1.

List of Subjects in 39 CFR Part 111

Administrative practice and procedure, Postal Service.

Accordingly, 39 CFR part 111 is amended as follows:

PART 111—[AMENDED]

1. The authority citation for 39 CFR part 111 is revised to read as follows:

Authority: 5 U.S.C. 552(a); 13 U.S.C. 301-307; 39 U.S.C. 101, 401, 403, 404, 407, 414, 416, 3001-3011, 3201-3219, 3403-3406, 3621, 3622, 3626, 3632, 3633, and 5001.

2. Revise the following sections of Mailing Standards of the United States Postal Service, Domestic Mail Manual (DMM) as follows:

Mailing Standards of the United States Postal Service, Domestic Mail Manual (DMM)

* * * * *

600 Basic Standards For All Mailing Services

* * * * *

608 Postal Information and Resources

* * * * *

608.2 Domestic Mail

* * * * *

608.2.4 Customs Declaration Form Required

[Redesignate the text in existing 2.4 as 2.4.1 and title as “Priority Mail Weighing 16 Ounces or More” and insert new 2.4.2 as follows:]

2.4.2 Freely Associated States—Items Requiring an Export License

Items sent to the Freely Associated States listed in DMM 608.2.2 that require an export license under 608.2.5.8, regardless of weight or class of mail, always require a PS Form 2976-A.

[Insert new DMM 608.2.5 to read as follows:]

608.2.5 Foreign Trade Regulations—U.S. Department of Commerce, U.S. Bureau of the Census

This section describes the various U.S. Department of Commerce, U.S. Bureau of the Census requirements when shipping goods to, from, and between U.S. territories, possessions, and Freely Associated States. Shipments to APO/FPO/DPO addresses are not subject to these requirements. Customers may be subject to civil and criminal penalties if they fail to electronically file their export information when required, or if they fail to comply with the Foreign Trade Regulations in any other way. Refer to IMM 520 for additional standards about the Census Bureau's requirements.

608.2.5.1 Mandatory Electronic Filing—U.S. Territories, Possessions, and Freely Associated States

Under the authority of 13 U.S.C. Chapter 9, as amended by the Foreign Relations Authorization Act of 2002, Public Law 107-228, U.S. Census Bureau regulations require electronic filing of export information through the U.S. Census Bureau's Automated Export System (AES) or AESDirect Web site for certain shipments of goods. Electronic filing of export information is required when any of the following applies, subject to certain exemptions and exclusions (see DMM 608.2.5.4):

a. The item requires an export license under U.S. law when sent to the Freely Associated States. See DMM 608.2.5.5 and DMM 608.2.5.6.

b. One or more classes of goods (per Schedule B Export Codes at http://www.census.gov/foreign-trade/schedules/b) within the item is valued at more than $2,500 and the item is mailed as follows:

1. From Puerto Rico to the United States or U.S. Virgin Islands.

2. From the United States to Puerto Rico or the U.S. Virgin Islands.

3. From the United States, Puerto Rico, or the U.S. Virgin Islands to the Freely Associated States.

608.2.5.2 Value Criterion

Following are three examples to illustrate the value criterion defined in 2.5.1:

a. A package contains one mechanically operated watch (Schedule B item # 9101.11.0000) valued at $2600. The total value of goods to be mailed is $2600, and the value of all items within the same Schedule B number is over $2500. Consequently, electronic filing and a PFC would be required (unless an exemption or exclusion applies).

b. A package contains one mechanically operated watch (Schedule B item # 9101.11.0000) valued at $2400, and one electronically operated watch (Schedule B item# 9101.91.0000) valued at $2400. The total value of goods to be mailed is $4800, but no group of items within the same Schedule B number is valued over $2500. Consequently, electronic filing and a PFC would not be required, because the mechanical watch and electronic watch are in different Schedule B groups,

c. A package contains two mechanically operated watches (Schedule B item # 9101.11.0000) one valued at $1400 and one valued at $1500. The total value of goods to be mailed is $2900 and the value of all items within the same Schedule B number is over $2500. Consequently, electronic filing and a PFC would be required, unless an exemption or exclusion applies.

608.2.5.3 How to File Electronic Export Information and Obtain a Proof of Filing Citation

For additional information on electronic filing, call the U.S. Census Bureau's toll-free information hotline at 800-549-0595, option #3. To file electronic export information through AESDirect and obtain a PFC, customers should use the following steps:

a. Go to http://www.aesdirect.gov.

b. Register for an AESDirect account or log into your existing account.

c. Follow the instructions for the AES Certification Quiz.

d. The “Port of Export” code for shipping through the Postal Service is “8000”.

e. The ”Mode of Transport” is “Mail”.

f. Leave the carrier as `SCAC/IATA' and the conveyance name fields blank.

g. After successfully filing electronic export information, AESDirect will provide an alphanumeric Internal Transaction Number (ITN) as confirmation. The PFC consists of the letters “AES” followed by the ITN: for example, “AES X20080930987654”.

608.2.5.4 AES Downtime Citation

If electronic information filing is required but AES or AESDirect is unavailable, the goods may be shipped but the customer is responsible for providing the appropriate AES Downtime Citation instead of a PFC. This citation includes the word “AESDOWN,” the customer's AES filer identification number, and the date: for example, “AESDOWN 123456789 09/30/2009.”

608.2.5.5 Exclusion and Exemption Legends

In many circumstances, electronic export information filing and a Proof of Filing Citation (PFC) may not be required. In these circumstances, and only when a customs declaration form is required under 608.2.4, customers are responsible for presenting an applicable Exemption or Exclusion Legend on the customs declaration form upon mailing. Customers may forgo this requirement if no customs declaration form is required. When a customs declaration form is used, customers should enter the applicable Exemption or Exclusion Legend on the customs declaration form. Customers must only enter one Exemption or Exclusion Legend per addressed mailpiece. When multiple Exemption or Exclusion Legends may apply, the mailer may select any one that applies. For more information on these and other exemptions and exclusions, customers should consult Appendix C of the Foreign Trade Regulations, 15 CFR Part 30. The following is a list of the most commonly applicable Exemption or Exclusion Legends for items mailed to from or between destinations under 608.2.

a. Regardless of value, for all goods shipped to, from, or between the following U.S. Territories, use “NOEEI 30.2(d)(2)”:

1. American Samoa.

2. Guam Island.

3. Northern Mariana Islands.

b. For items destined to the Freely Associated States listed in DMM 608.2.2, customers may apply “NOEEI 30.37(a)” if the value of each class of goods is $2,500 or less, provided an export license is not required (see 608.2.5.7 and 608.2.5.8).

608.2.5.6 Placement of PFC, AES Downtime Citation Placement, or Exemption and Exclusion Legend

If no customs declaration form is required (e.g., items sent between the United States, Puerto Rico, and the U.S. Virgin Islands), no other action for recording the PFC or AES Downtime Citation on the package is required. However, when a shipment requires a PFC, or AES Downtime Citation, or Exemption and Exclusion Legend, and a PS Form 2976-A is used under DMM 608.2.4; it is the customer's responsibility to legibly write the PFC, AES Downtime Citation, or Exemption or Exclusion Legend as follows:

a. On PS Form 2976-A, Customs Declaration and Dispatch Note—CP72 (large white form) customers should write one PFC, AES Downtime Citation, or Exemption or Exclusion Legend in Block 11.

b. On older versions of PS Form 2976-A printed prior to January 2009 customers should write one PFC, AES Downtime Citation, or Exemption or Exclusion Legend at the top of the form or in any clear space. Avoid writing over the barcode on the form.

608.2.5.7 Additional Standards for the Freely Associated States

The Freely Associated States listed in DMM 608.2.2 are foreign destinations for the purposes of the Foreign Trade Regulations and other laws and regulations governing imports and exports. As such, certain goods shipped to these destinations from the United States, Puerto Rico, the U.S. Virgin Islands, or other U.S. territories may require an export license. To determine if an export license is required, go to http://www.export.gov/regulation/index.asp or call: 1-800-USA-TRAD(E) (1-800-872-8723).

608.2.5.8 When an Export License Is Required

When an export license is required under 608.2.5.7, a PS Form 2976-A is always required. The electronically generated License Number must appear in Block 13, and a PFC or AES Downtime Citation must appear in Block 11 of the customs declaration form. See IMM 520 and 530 for complete requirements. In addition, it is the mailer's responsibility to comply with the U.S. Census Bureau's requirements for filing electronic export information, as described in DMM 608.2.5.1 and 608.2.5.2. A PFC or AES Downtime Citation should appear on the customs declaration form as described in DMM 608.2.5.6.

* * * * *

Neva R. Watson,
Attorney, Legislative.

[FR Doc. E9-21306 Filed 9-3-09; 8:45 am]

BILLING CODE 7710-12-P